FEDERAL COMMUNICATIONS COMMISSION

Notice of Public Infomation Collection Being Reviewed by the Federal Communications Commission, Comments Requested

November 13, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 19, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0757.

Title: FCC Auctions Customer Survey.

Form No.: N/A.

Type of Review: Revision of a currently approved collection.

Respondents: Individuals or households; business or other for-profit.

Number of Respondents: 1,000 respondents; 1,000 responses.

Estimated Time Per Response: .25 hours.

Frequency of Response: On occasion reporting requirement.

Obligation to Respond: Voluntary. Statutory authority for this information collection is contained in 47 U.S.C. 154(i), 309(j)(3), and 309(j)(12).

Total Annual Burden: 250 hours.

Total Annual Cost: N/A.

Privacy Act Impact Assessment: N/A.

Nature and Extent of Confidentiality: There is no need for confidentiality. Respondents may request materials or information to the Commission be withheld from public inspection under 47 CFR 0.459 of the Commission's rules.

Need and Uses: The Commission is requesting a revision of this information collection due to changes in the survey questions, clarification of data, etc. The Commission has not changed the existing burden estimates.

Since enactment of Section 6002 of the Omnibus Budget Reconciliation Act of 1993, the Commission has conducted a series of spectrum auctions. Approximately, 3,700 bidders have participate in these auctions, including individuals in their entrepreneurial capacity, businesses (both large and small) and other entities. By seeking input from auction participants, through the use of the FCC Auctions Customer Survey, the Commission expects to gather information to evaluate the competitive bidding methodologies and other operational processed used to date and to improve these techniques for use in future auctions.

Federal Communications Commission.
Marlene H. Dortch,
Secretary,
Office of the Secretary,
Office of Managing Director.

[FR Doc. E9-27737 Filed 11-18-09; 8:45 am]

BILLING CODE 6712-01-S